DEPARTMENT OF DEFENSE

Office of the Secretary

[Docket ID: DOD-2010-OS-0114]

Privacy Act of 1974; System of Records

AGENCY: Defense Information Systems Agency, DoD.

ACTION: Notice to amend a system of records.

SUMMARY: The Defense Information Systems Agency proposes to amend a system of records notice in its existing inventory of records systems subject to the Privacy Act of 1974, (5 U.S.C. 552a), as amended.

DATES: This proposed action will be effective without further notice on September 13, 2010, unless comments are received which result in a contrary determination.

ADDRESSES: You may submit comments, identified by docket number and title, by any of the following methods:

• Federal Rulemaking Portal: http://www.regulations.gov. Follow the instructions for submitting comments.

• Mail: Federal Docket Management System Office, Room 3C843 Pentagon, 1160 Defense Pentagon, Washington, DC 20301-1160.

Instructions: All submissions received must include the agency name and docket number for this Federal Register document. The general policy for comments and other submissions from members of the public is of make these submissions available for public viewing on the Internet at http://www.regulations.gov as they are received without change, including any personal identifiers or contact information.

FOR FURTHER INFORMATION CONTACT: Ms. Jeanette M. Weathers-Jenkins at (703) 681-2409.

SUPPLEMENTARY INFORMATION: The Defense Logistics Agency systems of records notices subject to the Privacy Act of 1974, (5 U.S.C. 552a), as amended, have been published in the Federal Register and are available from the Defense Information Systems Agency, 5600 Columbia Pike, Room 505, Falls Church, VA 22041-2705.

The specific changes to the record system being amended are set forth below followed by the notice, as amended, published in its entirety. The proposed amendment is not within the purview of subsection (r) of the Privacy Act of 1974 (5 U.S.C. 552a), as amended, which requires the submission of new or altered systems reports.

Dated: August 10, 2010.
Mitchell S. Bryman,
Alternate OSD Federal Register Liaison Officer, Department of Defense.

KEUR.03

System name:

Incident Report File (February 22, 1993; 58 FR 10562).

Changes:

* * * * *

System name:

Delete entry and replace with “Incident Report Records.”

System location:

Delete entry and replace with “Command Support Division, EU1, Defense Information Systems Agency-Europe, APO AE 09131-4103.”

* * * * *

Authority for maintenance of the system:

Delete entry and replace with “10 U.S.C. 133(b) 5 U.S.C. 301, Departmental Regulations; and DoD Instruction 6055.7, Mishap Notification, Investigation, Reporting, and Recordkeeping.”

* * * * *

Safeguards:

Delete entry and replace with “Records are maintained in a locked security file container and may be accessed only by the Commander, Deputy Commander, Chief, Command Support Division, or other persons specifically designated by the Commander.”

* * * * *

System manager(s) and address:

Delete entry and replace with “Command Support Division, EU1, Defense Information Systems Agency-Europe, APO AE 09131-4103.”

Notification procedure:

Delete entry and replace with “Individuals seeking to determine whether information about themselves is contained in this system should address written inquiries to the Command Support Division, EU1, Defense Information Systems Agency-Europe, APO AE 09131-4103.

The full name of the requesting individual will be required to determine if the system contains a record about him or her. As proof of identity, the requester must present a current DISA identification badge or driver's license.”

Record access procedures:

Delete entry and replace with “Individuals seeking access to information about themselves contained in this system should address written inquiries to the Command Support Division, EU1, Defense Information Systems Agency-Europe, APO AE 09131-4103.

The full name of the requesting individual will be required to determine if the system contains a record about him or her. As proof of identity, the requester must present a current DISA identification badge or driver's license.”

* * * * *

KEUR.03

System name:

Incident Report Records

System location:

Command Support Division, EU1, Defense Information Systems Agency-Europe, APO AE 09131-4103.

Categories of individuals covered by the system:

Any personnel (military or civilian) assigned to DISA Europe involved in traffic, financial, criminal or other incident which is reported to the Commander DISA Europe for information or necessary action.

Categories of records in the system:

Copies of Reports of Investigation, Military Police Incident Reports, traffic tickets, letters of notification of dishonored checks, and correspondence or documents concerning other matters brought to the attention of the Commander DISA Europe relating to personnel assigned to this Command.

Authority for maintenance of the system:

10 U.S.C. 133(b) 5 U.S.C. 301, Departmental Regulations; and DoD Instruction 6055.7, Mishap Notification, Investigation, Reporting, and Recordkeeping.

Purpose(s):

Maintained as a reference file for use by the Commander DISA Europe to document required actions taken in response to reports and notification of incidents involving assigned personnel.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' set forth at the beginning of the DISA's compilation of systems of records notices apply to this system.

Policies and practices for storing, retrieving, accessing, retaining, and disposing of records in the system:

Storage:

Records are stored in file folders.

Retrievability:

Information is retrieved by name of the individual.

Safeguards:

Records are maintained in a locked security file container and may be accessed only by the Commander, Deputy Commander, Chief, Command Support Division, or other persons specifically designated by the Commander.

Retention and disposal:

Records are maintained in an active file during the period of the individual's assignment to DISA Europe and destroyed on his or her departure.

System manager(s) and address:

Command Support Division, EU1, Defense Information Systems Agency-Europe, APO AE 09131-4103.

Notification procedure:

Individuals seeking to determine whether information about themselves is contained in this system should address written inquiries to the Command Support Division, EU1, Defense Information Systems Agency-Europe, APO AE 09131-4103.

The full name of the requesting individual will be required to determine if the system contains a record about him or her. As proof of identity, the requester must present a current DISA identification badge or driver's license.

Record access procedures:

Individuals seeking access to information about themselves contained in this system should address written inquiries to the Command Support Division, EU1, Defense Information Systems Agency-Europe, APO AE 09131-4103.

The full name of the requesting individual will be required to determine if the system contains a record about him or her. As proof of identity, the requester must present a current DISA identification badge or driver's license.

Contesting record procedures:

DISA's rules for accessing records, for contesting contents and appealing initial agency determinations are published in DISA Instruction 210-225-2; 32 CFR part 316; or may be obtained from the system manager.

Record source categories:

Information is obtained from reports, documents, and correspondence received from Civilian and Military Police Service Investigative Agencies, Military Exchange and Commissary systems, or any other agency or individual that reports information of an incident nature to the Commander DISA Europe.

Exemptions claimed for the system:

None.

[FR Doc. 2010-19989 Filed 8-12-10; 8:45 am]

BILLING CODE 5001-06-P